NATIONAL SCIENCE FOUNDATION

Sunshine Act Meetings

The National Science Board's (NSB) Committee on External Engagement hereby gives notice of the scheduling of a teleconference for the transaction of National Science Board business pursuant to the National Science Foundation Act and the Government in the Sunshine Act.

TIME AND DATE: Monday, February 14, 2022, from 5:00-6:00 p.m. EST.

PLACE: This meeting will be held by teleconference through the National Science Foundation.

STATUS: Open.

MATTERS TO BE CONSIDERED: The agenda of the teleconference is: Approval of minutes from the December 2021 meeting; discussion of Science & Engineering Indicators engagement; discussion of the February 2022 external panel and ideas for May and August panels relating to the geography of innovation; and revisiting NSB's goals for its honorary awards.

CONTACT PERSON FOR MORE INFORMATION: Point of contact for this meeting is: Nadine Lymn, nlymn@nsf.gov, 703/292-7000. Meeting information, updates and YouTube link may be found at the National Science Board website at www.nsf.gov/nsb.

Chris Blair,
Executive Assistant to the National Science Board Office.

[FR Doc. 2022-02921 Filed 2-8-22; 11:15 am]

BILLING CODE 7555-01-P